DEPARTMENT OF TRANSPORTATION

Federal Aviation Administration

14 CFR Part 71

[Airspace Docket No. 99-ASW-34]

Revision of Class E Airspace; Bonham, TX

AGENCY: Federal Aviation Administration (FAA), DOT.

ACTION: Direct final rule; correction.

SUMMARY: This action corrects an error in the legal description of a direct final rule that was published in the Federal Register on January 6, 2000 (65 FR 700) that revised the Class E Airspace at Bonham, TX.

EFFECTIVE DATE: 0901 UTC, February 17, 2000.

FOR FURTHER INFORMATION CONTACT: Donald J. Day, Airspace Branch, Air Traffic Division, Southwest Region, Federal Aviation Administration, Fort Worth, TX 76193-0520, telephone 817-342-5593.

SUPPLEMENTARY INFORMATION:

History

On January 6, 2000 (65 FR 700), the FAA published a direct final rule that revised the description of the Class E airspace area at Bonham, TX. However, an error was made in the legal description for the Bonham, TX Class E airspace area. The extension, based on the location of the Rayburn NDB, within “2.5 miles each side of the 347° bearing from the Rayburn NDB extending from the 6.4-mile radius to 7.5 miles northwest of the airport” was incorrectly included. That extension was already included in the legal description and was unnecessary.

Correction to Final Rule

Accordingly, pursuant to the authority delegated to me, the publication on January 6, 2000; FR DOC 00-242 and the legal description in FAA Order 7400.9G which is incorporated by reference in 14 CFR 71.1 are corrected as follows:

§ 71.1 [Corrected]

* * * * *

On page 701, the legal description is corrected to read as follows:

ASW TX E5 Bonham, TX [Revised]

Bonham, Jones Field, TX

(Lat. 33°36′42″N., long. 96°10′46″W.)

Bonham VORTAC

(Lat. 33°32′15″N., long. 96°14′03″W.)

That airspace extending upward from 700 feet above the surface within a 6.4-mile radius of Jones Field and within 4 miles east and 8 miles west of the 030° radial of the Bonham VORTAC extending from the 6.4-mile radius to 15 miles northeast of the airport.

* * * * *

Issued in Fort Worth, TX, on February 8, 2000.
Robert N. Stevens,
Acting Manager, Air Traffic Division, Southwest Region.

[FR Doc. 00-3819 Filed 2-16-00; 8:45 am]

BILLING CODE 4910-13-M